DEPARTMENT OF ENERGY

Federal Energy Regulatory Commission

[Docket Nos. PL04-14-000, ER03-1141-004, EL03-222-004, EL04-102-004, EL04-102-005, EL04-102-007, EL04-102-008, ER03-563-025, ER03-563-027, ER03-563-033, ER03-563-036, ER03-563-043, ER03-563-044, ER03-563-045, ER03-563-047, ER03-563-048, ER04-464-002, ER04-464-005, ER04-464-006, ER04-344-001, ER02-2463-004, ER02-2330-031, ER02-2330-032, RT04-2-006, RT04-2-007, RT04-2-008, RT04-2-009, ER04-116-006, ER04-116-007, ER04-116-008, ER04-116-009, ER04-157-008, ER04-157-009, ER04-157-011, EL01-39-006, EL01-39-007, EL01-39-008, EL01-39-009]

Connecticut Transmission Infrastructure; New England Power Pool and ISO New England, Inc., et al.; Devon Power LLC, et al.; Exelon New Boston LLC; ISO New England, Inc.; ISO New England, Inc. and Bangor Hydro, et al.; Notice of Technical Conference

January 3, 2005.

In a Notice of Technical Conference issued October 29, 2004, the Federal Energy Regulatory Commission announced that it would host a technical conference on Thursday, January 6, 2005, to discuss specific transmission proposals and cost issues for the State of Connecticut. The conference will be held in Room 2C of the Legislative Office Building, 300 Capitol Avenue, Hartford, Connecticut.

Please take note that the workshop schedule has changed, to begin at 10 a.m. (EST) (instead of 9 a.m.) and end at approximately 1 p.m. (instead of 3 p.m.). Members of the Federal Energy Regulatory Commission are expected to participate, along with state regulators from the New England region. An agenda is attached to this notice.

This conference is a follow-up to the infrastructure conference that was held on October 13, 2004. The goal of this technical conference is to provide a forum for discussion of issues affecting energy infrastructure in and around Connecticut. This discussion will take place between federal, State and regional leaders and industry representatives. The January 6 conference will focus primarily on proposals for new electric transmission, and the costs of these proposals.

The conference is a technical discussion between policy leaders, however, members of the public are welcome to attend. Registration is not required; however, in-person attendees are asked to register for the conference on-line by close of business on Tuesday, January 4, 2005 at http://www.ferc.gov/whats-new/registration/infra-0106-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

For more information about the conference, please contact Sarah McKinley at 202-502-8004, sarah.mckinley@ferc.gov.

Magalie R. Salas,
Secretary.

Addenda A

Agenda—Technical Conference on Connecticut Infrastructure; Thursday, January 6, 2005; Hartford, Connecticut; 10 a.m. to 1 p.m.

Opening Comments

Chairman Pat Wood, III, Federal Energy Regulatory Commission.

Chairman Donald W. Downes, Connecticut Department of Public Utility Control.

Review of Issues

David H. Boguslawski, Vice President, Transmission Business, Northeast Utilities Service Company.

Scope and Findings of the Investigations

Stephen G. Whitley, Senior Vice President and Chief Operating Officer, ISO New England, Inc.

Solutions Before the Siting Council

John J. Prete, Project Director/General Manager and Vice President, United Illuminating.

Cost Comparisons of Solutions

Anne Bartosewicz, Transmission Project Director, Northeast Utilities System.

Reliability Benefits

Stephen G. Whitley, Senior Vice President and Chief Operating Officer, ISO New England, Inc.

Process Going Forward for Determining Cost Allocation

Stephen G. Whitley, Senior Vice President and Chief Operating Officer, ISO New England, Inc.

Summary

David H. Boguslawski, Vice President, Transmission Business, Northeast Utilities Service Company.

[FR Doc. E5-45 Filed 1-10-05; 8:45 am]

BILLING CODE 6717-01-P